DEPARTMENT OF EDUCATION

Privacy Act of 1974; System of Records—DC Choice Program Evaluation

AGENCY: Institute of Education Sciences, National Center for Education Evaluation and Regional Assistance, Department of Education.

ACTION: Notice of a new system of records.

SUMMARY: In accordance with the Privacy Act of 1974, as amended (Privacy Act), the Department of Education (ED) publishes this notice of a new system of records entitled DC Choice Program Evaluation (18-13-07). The system will contain information about program applicants (students), their parents, and other adults living with the applicants. It will include names, addresses, telephone numbers, social security numbers, demographic information—such as race/ethnicity, age, marital status, disability, language spoken in the home, educational background, and income—and the results of academic assessments. The system will also collect information about parents' satisfaction with their children's current schools and the reasons for seeking a new school. In addition, the system will collect scores on academic achievement examinations administered by a Department contractor for applicants who may not have participated in Spring, 2004 District of Columbia public schools (DCPS) testing. It will also contain academic achievement data and other student performance measures, including attendance and disciplinary records, from existing DCPS education records for all students in grades K thru 12.

DATES: The Department seeks comment on this new system of records described in this notice, in accordance with the requirements of the Privacy Act. We must receive your comments on the proposed routine use for the system of records included in this notice on or before May 24, 2004.

The Department filed a report describing the new system of records covered by this notice with the Chair of the Senate Committee on Governmental Affairs, the Chair of the House of Representatives Committee on Government Reform, and the Administrator of the Office of Information and Regulatory Affairs, Office of Management and Budget (OMB), on April 20, 2004.

Except for the provisions governing routine uses of records maintained in the system, this system of records notice is effective upon publication. The proposed routine use included in this new system of records will become effective on—(1) the expiration of the 40-day period for OMB review on May 30, 2004; (2) the expiration of a 30-day period for OMB review on May 20, 2004, if OMB waives 10 days of its review; or, (3) May 24, 2004, unless the proposed routine use included in the system of records needs to be changed as a result of public comment or OMB review.

ADDRESSES: Address all comments about the proposed routine uses to Dr. Ricky Takai, Director, Evaluation Division, National Center for Education Evaluation and Regional Assistance, Institute of Education Sciences, U.S. Department of Education, 555 New Jersey Avenue, NW., room 502d, Washington, DC 20208. Telephone: (202) 208-7083. If you prefer to send comments through the Internet, use the following address: comments@ed.gov. You must include the term “DC Choice Evaluation” in the subject line of the electronic message.

During and after the comment period, you may inspect all public comments about this notice in room 502, 555 New Jersey Avenue, NW., Washington, DC, between the hours of 8 a.m. and 4:30 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Ricky Takai. Telephone: (202) 208-7083. If you use a telecommunications devise for the deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION:

Introduction

The Privacy Act (5 U.S.C. 552a) requires ED to publish in the Federal Register this notice of a new system of records maintained by the Department. The Department's regulations implementing the Privacy Act are contained in part 5b of title 34 of the Code of Federal Regulations (CFR).

The Privacy Act applies to information about individuals that contain individually identifiable information that may be retrieved by a unique identifier associated with each individual, such as a name or social security number. The information about each individual is called a “record” and the system, whether manual or computer-based, is called a “system of records.” The Privacy Act requires each agency to publish notices of systems of records in the Federal Register and to prepare a report to OMB whenever the agency publishes a new or altered system of records. Each agency is also required to send copies of the report to the Chair of the Senate Committee on Governmental Affairs and the Chair of the House Committee on Government Reform. These reports are intended to permit an evaluation of the probable or potential effect of the proposal on the privacy of individuals.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498, or in the Washington, DC, area at (202) 512-1530.

Note: The official version of this document is the document published in the Federal Register. Free Internet access to the official edition of the Federal Register and the CFR is available on GPO Access at: http://www.gpoaccess.gov/nara/index.html.

Dated: April 20, 2004.
Grover Whitehurst,
Director, Institute of Education Sciences.

For the reasons discussed in the preamble, the Director of the Institute of Education Sciences, U.S. Department of Education publishes a notice of a new system of records to read as follows:

18-13-07

SYSTEM NAME:

DC Choice Program Evaluation.

SECURITY CLASSIFICATION:

None.

SYSTEM LOCATION:

Westat, 1650 Research Boulevard, Rockville, MD, 20850.

CATEGORIES OF INDIVIDUALS COVERED BY THE SYSTEM:

There are two categories of individuals who are covered by this system. The system will contain records on DC Choice Program applicants (students), their parents and other adults living with these students. The system will also contain information on all DCPS non-applicant students from K thru 12.

CATEGORIES OF RECORDS IN THE SYSTEM:

This system consists of the names, addresses, telephone numbers, social security numbers, demographic information—such as race/ethnicity, age, marital status, disability, language spoken in the home, educational background, and income—and the results of academic assessments. The system will collect information about parents' satisfaction with their children's current schools and the reasons for seeking a new school. The system will also collect scores on academic achievement examinations for applicants who may not have participated in Spring, 2004 DCPS testing. In addition, the system will also contain academic achievement data and other student performance measures, including attendance and disciplinary records, from existing DCPS school records for all students in grades K thru 12.

AUTHORITY FOR MAINTENANCE OF THE SYSTEM:

DC School Choice Incentive Act of 2003, Pub. L. 108-199, Division C, Title III, Section 309(a)(3) and (4).

PURPOSE(S):

This statute is intended to provide low-income parents residing in the District of Columbia (the District) with expanded opportunities for enrolling their children in higher-performing private schools in the District. The information in this system will be used to fulfill the requirements of the DC School Choice Incentive Act of 2003 (D.C. Choice Act), especially section 309, which calls for a detailed evaluation of the program. In particular, section 309 directs the Department to evaluate the performance of students participating in the program by comparing them with the students in the same grade at DCPS as well as students in DCPS who applied for the program but were not selected.

ROUTINE USES OF RECORDS MAINTAINED IN THE SYSTEM, INCLUDING CATEGORIES OF USERS AND THE PURPOSE OF SUCH USES:

ED may disclose information contained in a record in this system of records under the routine use listed in this system without the consent of the individual if the disclosure is compatible with the purposes for which the record was collected. Any disclosure of individually identifiable information from a record in this system must also comply with the requirements of: (A) Section 183 of the Education Sciences Reform Act of 2002 (ESRA), Pub. L. 107-279, providing for confidentiality standards that apply to all collections, reporting and publication of data by the Institute of Education Sciences (IES); (B) if applicable, Title V of the E-Government Act of 2002 (E-Gov Act), Pub. L. 107-347, governing any pledges of confidentiality given to the public for statistical purposes; and (C) Section 309(a)(5) of the D.C. Choice Act, prohibiting the disclosure of personally identifiable information to the public regarding the results of the measurements used for the evaluations.

Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system and to agree in writing to comply with all other provisions of law that affect the disclosure of the information, including section 183 of the ESRA, Title V of the E-Gov Act, and section 309(a)(5) of the D.C. Choice Act.

DISCLOSURE TO CONSUMER REPORTING AGENCIES:

Not applicable to this system notice.

POLICIES AND PRACTICES FOR STORING, RETRIEVING, ACCESSING, RETAINING, AND DISPOSING OF RECORDS IN THE SYSTEM: STORAGE:

The contractor will maintain data for this system on its computers and in hard copy.

RETRIEVABILITY:

Records in this system are indexed by a number assigned to each individual, which is cross-referenced by the individual's name on a separate list.

SAFEGUARDS:

Individual access to the offices of Department contractor, Westat, that maintains the system of records is controlled and monitored by security personnel. The contractor has established a set of procedures to ensure confidentiality of data. The system ensures that information identifying individuals is in files physically separated from other research data. Westat will maintain security of the complete set of all master data files and documentation. Access to individually identifiable data will be strictly controlled. All data will be kept in locked file cabinets during nonworking hours, and work on hardcopy data will take place in a single room, except for data entry.

Physical security of electronic data will also be maintained. Security features that protect project data include password-protected accounts that authorize users to use the Westat system but to access only specific network directories and network software; user rights and directory and file attributes that limit those who can use particular directories and files and determine how they can use them; e-mail passwords that authorize the user to access mail services and additional security features that the network administrator establishes for projects as needed.

RETENTION AND DISPOSAL:

Records are maintained and disposed of in accordance with ED's record disposition schedules (ED/RDS). In particular, ED will follow the schedules outlined in Part 3 (Research Projects and Management Study Records) and Part 14 (Electronic Records).

SYSTEM MANAGER AND ADDRESS:

Director, Evaluation Division, National Center for Education Evaluation and Regional Assistance, Institute of Education Sciences, U.S. Department of Education, 555 New Jersey Avenue, NW., room 502, Washington, DC 20208.

NOTIFICATION PROCEDURE:

If you wish to determine whether a record exists regarding you in the system of records, contact the systems manager. Your request must meet the requirements of the regulations in 34 CFR 5b.5, including proof of identity.

RECORD ACCESS PROCEDURE:

If you wish to gain access to your record in the system of records, contact the system manager. Your request must meet the requirements of the regulations in 34 CFR 5b.5, including proof of identity.

PROCEDURE FOR CONTESTING RECORD:

If you wish to contest the content of a record regarding you in the system of records, contact the system manager. Your request must meet the requirements of the regulations in 34 CFR 5b.7, including proof of identity.

RECORD SOURCE CATEGORIES:

There are three principal record source categories in this system. Information will be obtained from applications submitted by potential scholarship winners. Information will also be obtained directly from applicants who have to take academic assessment examinations administered directly by the contractor. Finally, information will be gathered from the education records of DCPS students in grades K thru 12.

SYSTEMS EXEMPTED FROM CERTAIN PROVISIONS OF THE ACT:

None.

[FR Doc. 04-9303 Filed 4-22-04; 8:45 am]

BILLING CODE 4000-01-P